GOVERNMENT ACCOUNTABILITY OFFICE

Request for Nominations for the Board of Governors of the Patient-Centered Outcomes Research Institute

AGENCY: Government Accountability Office (GAO).

ACTION: Request for letters of nomination and resumes.

SUMMARY: The Patient Protection and Affordable Care Act gave the Comptroller General of the United States responsibility for appointing up to 21 members to the Board of Governors of the Patient-Centered Outcomes Research Institute (PCORI). In addition, the Directors of the Agency for Healthcare Research and Quality and the National Institutes of Health, or their designees, are members of the Board. As the result of terms ending in September 2020, GAO is accepting nominations in the following categories: A physician, a representative of patients and health care consumers, a representative of pharmaceutical manufacturers or developers, a representative of private payers who represents employers who self-insure employee benefits, and between one and three representatives of private payers who represent health insurance issuers. Nominations should be sent to the email or mailing address listed below. Acknowledgement of submissions will be provided within a week of submission.

DATES: Letters of nomination and résumés should be submitted no later than May 13, 2020, to ensure adequate opportunity for review and consideration of nominees prior to appointment.

ADDRESSES: Submit letters of nomination and résumés by either of the following methods:

Email: PCORI@gao.gov. Include PCORI Nominations in the subject line of the message, or Mail: U.S. GAO, Attn: PCORI Nominations, 441 G Street NW, Washington, DC 20548.

FOR FURTHER INFORMATION CONTACT: Ray Sendejas at (202) 512-7113 or sendejasr@gao.gov if you do not receive an acknowledgement or need additional information. For general information, contact GAO's Office of Public Affairs, (202) 512-4800.

Authority: Sec. 6301 and Sec. 10602, Pub. L. 111-148, 124 Stat. 119, 727, 1005 (2010); Div. N, Sec. 104, Pub. L. 116-94, 133 Stat. 2534 (2019).

Gene L. Dodaro,
Comptroller General of the United States.

[FR Doc. 2020-06313 Filed 3-31-20; 8:45 am]

BILLING CODE 1610-02-P